DEPARTMENT OF HOUSING AND URBAN DEVELOPMENT

[Docket No. FR-7024-N-39; OMB Control No. 2506-0133]

30-Day Notice of Proposed Information Collection: Housing Opportunities for Persons With AIDS (HOPWA) Program

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: September 28, 2020.

ADDRESSES: Interested persons are invited to submit comments regarding this proposal. Comments should refer to the proposal by name and/or OMB Control Number and should be sent to: HUD Desk Officer, Office of Management and Budget, New Executive Office Building, Washington, DC 20503; fax: 202-395-5806, Email: OIRA Submission@omb.eop.gov

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on March 24, 2020 at 85 FR 16643.

A. Overview of Information Collection

Title of Information Collection: Housing Opportunities for Persons with AIDS (HOPWA): Grant Application Submission, Recordkeeping, and Reporting.

OMB Approval Number: 2506-0133.

Type of Request: Revision of currently approved collection.

Form Number: HUD-40110-B, HUD-40110-C, HUD-40110-D, SF-424, SF424D, SF-LLL, and HUD-2991.

Description of the need for the information and proposed use: The current Paperwork Reduction Act approval under OMB Control No. 2506-0133 covers both the HOPWA formula and competitive grant programs. The competitive grant program includes new competitive grants and renewal grants. This revision would only apply to reporting requirements for new competitive Special Projects of National Significance (SPNS) grants.

The current approval covers reporting for new competitive SPNS grants through HUD-40110-C, the HOPWA Annual Performance Report (APR). This submission requests to add four data elements to be reported annually through the HIV Housing Care Continuum Model Report to be submitted annually and the Housing as an Intervention to Fight AIDS (HIFA) report to be submitted at the end of the grant period of performance. The additional reporting will allow HOPWA to share lessons learned and promising practices with the public, and uphold the purpose of SPNS grants to be replicable in other similar localities or nationally. The data elements in the HIV Housing Care Continuum Model Report follow Center for Disease Control (CDC) definitions for the HIV Care Continuum and will allow SPNS grantees to collect standardized project data that can be used to compare outcomes with other projects. The HIV Housing Care Continuum Model report will require grantees to collect four client-level data elements for each person with diagnosed HIV receiving HOPWA assistance by type of assistance received through this NOFA. The data elements include:

1. Receipt of Care. Receipt of care is measured as a person with diagnosed HIV receiving HOPWA assistance under this NOFA who had at least one CD4 or viral load test during the operating year.

2. Retained in Care. Retained in care is measured as a person with diagnosed HIV receiving HOPWA assistance under this NOFA who had two or more CD4 or viral load tests, performed at least three months apart during the operating year.

3. Viral Suppression. Viral suppression is measured as a person with diagnosed HIV receiving HOPWA assistance under this NOFA who had a viral load test result of <200 copies/mL at the most recent viral load test during the operating year.

4. Type of HOPWA assistance received. The type of HOPWA assistance received by the person with diagnosed HIV includes any HOPWA assistance for housing or supportive services funded through this NOFA. This data element will provide the denominator for the variety of HIV Housing Care Continuums created through the HIV Housing Care Continuum Model Report. Grantees will be required to separately report receipt of care, retained in care, and viral suppression for persons with diagnosed HIV receiving the following categories of type of HOPWA assistance under this NOFA: Any eligible HOPWA assistance; Housing assistance only; Supportive Services only; Both Housing assistance and Supportive Services; Tenant-based Rental Assistance (TBRA) and Master Leasing only; TBRA, Master Leasing, and Supportive Services; Facility-based Housing only; Facility-based Housing and Supportive Services; Short-term Rent, Mortgage, and Utilities (STRMU) only; STRMU and Supportive Services; Other Housing Activities only; and Other Housing Activities and Supportive Services.

Each annual submission of the HIV Housing Care Continuum Model report will cover only the data from the program year covered. The client-level data elements should be collected at minimum annually and at the following times: Client Intake, HOPWA Assistance Ends, Type of HOPWA Assistance Changes, or Recertification for HOPWA Assistance. In addition to the data elements collected, the grantee will provide a brief narrative to interpret the data reported.

The HIFA Model report will document the project's design, implementation, and outcomes, and identify best practices and model qualities related to the use of housing as a structural intervention in the ending the HIV/AIDS epidemic. The HIFA Model report includes the following components: a vision or goal for the project; description of the need being met by the project; description of the program design; description of the alignment with initiatives or strategies to end the HIV/AIDS epidemic; description of data collection and analysis used to make data-driven decisions on stable housing and positive health outcomes; description of culturally competent approaches used to clients experiencing service gaps; partnerships formed or continued with community organizations and other housing and service providers; resources and partnerships used to transition clients to self-sufficiency or other forms of housing assistance by the end of the grant period; successes and challenges in using housing as a structural intervention to end the HIV/AIDS epidemic; client outcomes related to health and housing stability including a summary of HIV Housing Care Continuum results and, if applicable, employment and income growth. Health outcome measures will include eligible program beneficiary CD4 count, viral load, and perceived health. This data will be provided in the aggregate. Each HIFA Model will be shared with the public, and lessons learned through these grantee efforts will help inform national and community policy and actions.

Reporting and recordkeeping for both HOPWA formula and competitive grant programs are already included in this approval. As currently approved through this collection, all HOPWA grantees will continue to provide annual information on program accomplishments that supports program evaluation and the ability to measure program beneficiary outcomes related to: maintaining housing stability; preventing homelessness; and improving access to care and support. Competitive grantees report through HUD-40110-C, the HOPWA APR; Formula grantees report through HUD-40110-D, the HOPWA Consolidated Annual Performance and Evaluation Report (CAPER). Grantees are required to report on the activities undertaken only, thus there may be components of these reporting requirements that may not be applicable. HUD systematically reviews and conducts data analysis in order to prepare national and individual grantee performance profiles that are not only used to measure program performance against benchmark goals and objectives, but also to communicate the program's achievement and contributions towards Departmental strategic goals.

The currently approved collection also pertains to grant application submission requirements which will be used to rate applications, determine eligibility, and establish grant amounts.

HOPWA will continue using application narratives and form HUD-40110-B, HOPWA Competitive Application & Renewal of Permanent Supportive Housing Project Budget Summary, as a component of determining applicant eligibility and establishing grant amounts for competitive grants. HOPWA competitive and renewal application submission also continue to require submission of the following forms currently approved under this collection: SF424 and SF424b assurances; SFLLL; and HUD-2991. Form HUD-2991 is currently covered under OMB approval number 2506-0112. This revision will also include the SF424D to include assurances for constructions programs for HOPWA competitive grants that may utilize funding for new construction or rehabilitation.

Information collection | Number of respondents | Frequency of response | Responses per annum | Burden hour per response | Annual burden hours | Hourly cost per response | Annual cost
HOPWA Renewal Application (including HUD-40110-B, narratives, and other requirements listed in the renewal notice) | 28.00 | 1.00 | 28.00 | 15.00 | 420.00 | $25.35 | $10,647.00
HOPWA Competitive Application (including HUD-40110-B, narratives, and other requirements listed in the NOFA) | 40.00 | 1.00 | 40.00 | 45.00 | 1,800.00 | 25.35 | 45,630.00
HUD-40110-C Annual Progress Report (APR) | 116.00 | 1.00 | 116.00 | 55.00 | 6,380.00 | 25.35 | 161,733.00
HUD-40110-D Consolidated Annual Performance and Evaluation Report (CAPER) | 128.00 | 1.00 | 128.00 | 41.00 | 5,248.00 | 25.35 | 133,036.80
HIV Housing Care Continuum Model Report (new competitive SPNS grant only) | 26.00 | 1.00 | 26.00 | 20.00 | 520.00 | 25.35 | 13,182.00
Housing as an Intervention to Fight AIDS (HIFA) Model Report (new competitive SPNS grant only) | 26.00 | 1.00 | 26.00 | 40.00 | 1,040.00 | 25.35 | 26,364.00
Recordkeeping for Competitive, Renewal, and Formula Grantees | 244.00 | 1.00 | 244.00 | 60.00 | 14,640.00 | 25.35 | 371,124.00
Grant Amendments (budget change, extension, or early termination) | 30.00 | 1.00 | 30.00 | 6.00 | 180.00 | 25.35 | 4,563.00
Total | 638.00 |  | 638.00 |  | 30,228.00 |  | 766,279.80

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

Authority: Section 3507 of the Paperwork Reduction Act of 1995, 44 U.S.C. Chapter 35.

Anna P. Guido,
Department Reports Management Officer, Office of the Chief Information Officer.

[FR Doc. 2020-18949 Filed 8-27-20; 8:45 am]

BILLING CODE 4210-67-P